DEPARTMENT OF AGRICULTURE

Forest Service

Notice of New Fee Site; Federal Lands Recreation Enhancement Act, (Title VII, Pub. L. 108-447)

AGENCY: Coconino National Forest, USDA Forest Service, Arizona.

ACTION: Notice of new fee site.

SUMMARY: The Coconino National Forest proposes to begin charging a new $75.00 per day fee for rental of the Apache Maid Cabin located 24 miles northeast of Rimrock, Arizona. Rental of the Cabin includes overnight use. Rental of the cabin and other facilities within the Arizona National Forests has shown that the public appreciates and enjoys the availability of historic rental facilities. Funds from the rentals will be used for the continued operation and maintenance of the Apache Maid Cabin.

DATES: Apache Maid Cabin will become available for rent January, 2008.

ADDRESSES: Red Rock Ranger District, Coconino National Forest, P.O. Box 20429, Sedona, AZ 86341.

FOR FURTHER INFORMATION CONTACT: Bill Stafford, District Recreation Staff, Red Rock Ranger District, 928-203-7529.

SUPPLEMENTARY INFORMATION: The Federal Recreation Lands Enhancement Act (Title VII, Pub. L. 108-447) directed the Secretary of Agriculture to public a six month advance notice in the Federal Register whenever new recreation fee areas are established. The Coconino National Forest currently has three other rental facilities. These facilities are booked regularly throughout the rental season. A business analysis for the rental of the Apache Maid Cabin shows that people desire having this sort of recreation experience on the Coconino National Forest. A market analysis indicates that the $75 daily fee is both reasonable and acceptable for this sort of unique recreation experience. People wanting to rent the Apache Maid Cabin will need to do so through the National Recreation Reservation Service, at http://www.recreation.gov or by calling 1-877-444-6777. The National Recreation Reservation Service charges a $9 fee per reservation.

Dated: July 5, 2007.
Mark R. Sensibaugh,
Forest Supervisor, Coconino National Forest.

[FR Doc. 07-3429 Filed 7-12-07; 8:45 am]

BILLING CODE 3410-11-M